DEPARTMENT OF COMMERCE

International Trade Administration

[A-533-502]

Certain Welded Carbon Steel Standard Pipes and Tubes From India: Final Negative Determinations of Circumvention of the Antidumping Duty Order

AGENCY: Enforcement and Compliance, International Trade Administration, Department of Commerce.

SUMMARY: The U.S. Department of Commerce (Commerce) determines that imports of certain welded carbon steel standard pipes and tubes (pipe and tube), completed in Oman and the United Arab Emirates (UAE) from hot-rolled steel (HRS) produced in India, are not circumventing the antidumping duty (AD) order on pipe and tube from India.

DATES: Applicable March 1, 2023.

FOR FURTHER INFORMATION CONTACT: Jacob Keller or Dusten Hom, AD/CVD Operations, Office I, Enforcement and Compliance, International Trade Administration, U.S. Department of Commerce, 1401 Constitution Avenue NW, Washington, DC 20230; telephone: (202) 482-4849 or (202) 482-5075, respectively.

SUPPLEMENTARY INFORMATION:

Background

On August 26, 2022, Commerce published in the Federal Register its Preliminary Determination that imports of pipe and tube completed in Oman and the UAE are not circumventing the Order.¹ On December 9, 2022, Commerce extended the deadline for the final determination of these circumvention inquiries to February 22, 2022.² For a summary of events that occurred since Commerce published the Preliminary Determination, as well as a full discussion of the issues raised by parties for the final determinations, see the Issues and Decision Memorandum.³ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

¹ See Certain Welded Carbon Steel Standard Pipes and Tubes from India: Preliminary Negative Determinations of Circumvention of the Antidumping Order, 87 FR 52507 (August 26, 2022) (Preliminary Determination), and accompanying Preliminary Decision Memorandum; see also Certain Welded Carbon Steel Standard Pipes and Tubes from India, 51 FR 17384 (May 12, 1986) (Order).

² See Memorandum, “Extension of Final Determination,” dated December 9, 2022.

³ See Memorandum, “Issues and Decision Memorandum for the Circumvention Inquiry of the Antidumping Duty Order on Certain Welded Carbon Steel Standard Pipes and Tubes from India,” dated concurrently with, and hereby adopted by, this notice (Issues and Decision Memorandum).

Scope of the Order ⁴

⁴ See Order.

The products covered by the Order include certain welded carbon steel standard pipes and tubes with an outside diameter of 0.375 inch or more but not over 16 inches. For a full description of the scope of the Order, see the Issues and Decision Memorandum.

Merchandise Subject to the Circumvention Inquiries

These circumvention inquiries cover pipe and tube completed in Oman and the UAE using Indian-origin HRS and subsequently exported from Oman and the UAE to the United States.

Methodology

Commerce is conducting these circumvention inquiries in accordance with section 781(b) of the Tariff Act of 1930, as amended (the Act), and 19 CFR 351.226. See Preliminary Decision Memorandum for a full description of the methodology.⁵ We have continued to apply this methodology except where otherwise noted, and incorporate by reference this description of the methodology, for our final determination.⁶

⁵ See Preliminary Decision Memorandum at 10-24.

⁶ See Issues and Decision Memorandum at 4.

Analysis of Comments Received

All issues raised in the case and rebuttal briefs by parties in these inquiries are addressed in the Issues and Decision Memorandum. A list of the issues raised is attached to this notice at the appendix.

Based on our analysis of the comments received from interested parties, we made certain revisions to the Preliminary Determination. For Conares, we revised our pattern of trade and sourcing analysis to include Indian HRS shipments from a trading company based on information obtained during verification. For Universal, we revised our pattern of trade and sourcing analysis using the appropriate databases submitted with Universal's initial questionnaire response to include all Indian HRS purchases. The Issues and Decision Memorandum contains explanations of these revisions.

Final Negative Determinations of Circumvention

As detailed in the Issues and Decision Memorandum, Commerce determines that pipe and tube completed in Oman and the UAE using Indian-origin HRS and subsequently exported from Oman or the UAE to the United States are not circumventing the Order. Accordingly, Commerce is making a negative finding of circumvention of the Order.

Suspension of Liquidation

Pursuant to 19 CFR 351.226(l)(4), Commerce will order U.S. Customs and Border Protection (CBP) to terminate the suspension of liquidation and refund cash deposits for any imports of inquiry merchandise that are suspended under the case number applicable to this proceeding (i.e., A-533-502). Commerce will instruct CBP to continue to suspend imports of inquiry merchandise suspended under other case numbers (e.g., A-520-807, A-523-812) until specific liquidation instructions are issued.

Administrative Protective Order

This notice will serve as the only reminder to all parties subject to administrative protective order (APO) of their responsibility concerning the destruction of proprietary information disclosed under APO in accordance with 19 CFR 351.305(a)(3). Timely written notification of return/destruction of APO materials or conversion to judicial protective order is hereby requested. Failure to comply with the regulations and the terms of an APO is a sanctionable violation.

Notification to Interested Parties

This determination is issued and published in accordance with section 781(b) of the Act and 19 CFR 351.226(g)(2).

Dated: February 22, 2023.
Abdelali Elouaradia,
Deputy Assistant Secretary for Enforcement and Compliance.

Appendix—List of Topics Discussed in the Issues and Decision Memorandum

I. Summary

II. Background

III. Merchandise Subject to the Circumvention Inquiry

IV. Scope of the Order

V. Changes from the Preliminary Determination

VI. Discussion of the Issues

Comment 1: Whether the Factors Under Section 781(b)(3) of the Act Are Determinative and Controlling

Comment 2: Whether Commerce Should Assign Adverse Facts Available (AFA) to Conares Metal Supply Limited (Conares)

Comment 3: Whether a Cash Deposit Rate Disparity Existed Between India, Oman, and the UAE During the Inquiry Period

Comment 4: Whether Pattern of Trade and Other Factors Under Section 781(b)(3) of the Act Support an Affirmative Determination of Circumvention

Comment 5: Whether a Single Product Can Be Subject to Two AD Orders

Comment 6: Whether the Production of Pipe and Tube Is Minor or Insignificant Under Section 781(b)(2) of the Act

Comment 7: Whether the Merchandise Completed in the Subject Country Is a Significant Portion of the Value of the Merchandise Exported to the United States

VII. Recommendation

[FR Doc. 2023-04161 Filed 2-28-23; 8:45 am]

BILLING CODE 3510-DS-P